DEPARTMENT OF ENERGY

Federal Energy Regulatory Commission

[ Docket Nos. ER00-826-003, ER98-421-014, ER98-4055-011, ER01-1337-006, ER96-2504-011, ER01-1820-006, ER02-177-007, ER96-2506-009, ER03-1212-005, ER96-110-014, ER99-3822-007, ER02-443-006, ER03-185-005, ER03-17-005, ER01-545-007, ER03-956-005, ER01-1619-007, ER98-2680-009, ER98-2681-009, ER98-2682-009, ER99-1785-008, ER99-3118-006, ER99-3118-006, ER97-3858-002, ER00-1783-007, ER02-795-005, ER98-2783-007 and ER00-3696-004]

Brownsville Power I, L.L.C.; Caledonia Power, I, L.L.C.; CinCap V, LLC; CinCap V, LLC; Cinergy Capital & Trading, Inc., Cincinnati Gas & Electric Co., Cinergy Services, Inc., Cinergy Power Investments, Inc., PSI Energy, Inc., St. Paul Cogeneration, LLC; Duke Power, a division of Duke Power Corporation, Casco Bay Energy Company, LLC; Duke Energy Arlington Valley, LLC; Duke Energy Fayette, LLC; Duke Energy Hanging Rock, LLC; Duke Energy Lee, LLC; Duke Energy Marketing America, LLC; Duke Energy Mohave, LLC; Duke Energy Moss Landing, LLC; Duke Energy Morro Bay, LLC; Duke Energy Oakland, LLC; Duke Energy South Bay, LLC; Duke Energy St. Francis, LLC; Duke Energy Trading and Marketing, L.L.C.; Duke Energy Vermillion, LLC; Bridgeport Energy, LLC; Griffith Energy, LLC; Notice of Filing

June 9, 2005.

Take notice that on May 20, 2005, the above-captioned companies, each of which are direct or indirect subsidiaries of Cinergy Corporation (Cinergy) or indirect subsidiaries of Duke Energy Corporation (Duke Energy) except for Duke Power which is a division of Duke, submits for filing to the Commission notification of the pending merger of Cinergy and Duke Energy, and of the measures that the entities will take to treat one another like affiliates while the Merger remains pending.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First Street, NE., Washington, DC 20426.

The filing in the above proceeding is accessible in the Commission's eLibrary system. It is also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Comment Date: 5 p.m. on June 16, 2005.

Linda Mitry,
Deputy Secretary.

[FR Doc. E5-3071 Filed 6-14-05; 8:45 am]

BILLING CODE 6717-01-P